POSTAL SERVICE

39 CFR Part 111

Postage Meters and Meter Stamps

AGENCY: Postal Service.

ACTION: Final rule.

SUMMARY: The Postal Service is changing the Domestic Mail Manual P030 to extend the use of postage meters to include postage-evidencing systems that print information-based indicia.

DATES: This rule is effective on July 17, 2001.

FOR FURTHER INFORMATION CONTACT: James Luff, 703-292-3693.

SUPPLEMENTARY INFORMATION: The Postal Service published a proposed rule on May 1, 2001 to amend DMM P030.1.4 to allow mailers to use information-based indicia (IBI) to show evidence of postage, as they would letterpress and digital meter stamps. Comments on the proposed rule were due on or before May 31, 2001. We did not receive any comments. Therefore, the rule is adopted as final without any changes.

List of Subjects in 39 CFR Part 111

Administrative practice and procedure, Postal Service.

For the reasons stated in the preamble, the Postal Service amends 39 CFR part 111 as follows:

PART 111—[AMENDED]

1. The authority citation for 39 CFR part 111 continues to read as follows:

Authority: 5 U.S.C. 552(a); 39 U.S.C. 101, 401, 403, 404, 3001-3011, 3201-3219, 3403-3406, 3621, 3626, 5001.

2. Revise section P030.1.4 of the Domestic Mail Manual as follows:

P Postage and Payment Methods

P000 Basic Information

* * * * *

P030 Postage Meters and Meter Stamps

* * * * *

1.0 BASIC INFORMATION

* * * * *

1.4 Classes of Mail

Postage may be paid by printing postage meter stamps (including letterpress, digital meter stamps, and information-based indicia) on any class of mail except Periodicals. Information-based indicia (IBI) include human-readable information and a USPS-approved two-dimensional barcode with a digital signature and other required data fields. Metered mail (including mail bearing IBI) is entitled to all privileges and subject to all conditions applying to the various classes of mail.

Stanley F. Mires,
Chief Counsel, Legislative.

[FR Doc. 01-17848 Filed 7-16-01; 8:45 am]

BILLING CODE 7710-12-P